DEPARTMENT OF JUSTICE

Notice of Lodging of Proposed Consent Decree Under the Comprehensive Environmental Response, Compensation, and Liability Act

Notice is hereby given that on May 13, 2008, a Consent Decree in United States of America v. the District of Columbia, Civil Action No. 1:08-cv-00825-RBW, was lodged with the United States District Court for the District of Columbia.

The consent decree resolves the claims of the United States under Section 107(a) of the Comprehensive Environmental Response, Compensation and Liability Act (“CERCLA”), 42 U.S.C. 9607(a), for reimbursement of its past response costs incurred in connection with EPA's response to releases of mercury at two high schools in the District of Columbia. The first release of mercury occurred in and around Ballou High School in 2003 and second release of mercury occurred in and around Cardozo High School in 2005.

The consent decree obligates the District of Columbia to reimburse $600,000 of the United States' past response costs. In addition, the District of Columbia commits to verify that it is properly storing, removing and disposing of mercury and other hazardous substances in the District of Columbia public schools. Its verification will include conducting an audit of a representative number of schools. If the District discovers hazardous substances in the schools which are present or maintained in a manner inconsistent with its policies and procedures, the District commits to remove and dispose of such chemicals properly, or to store and inventory them properly.

The Department of Justice will receive for a period of thirty (30) days from the date of this publication comments relating to this proposed Consent Decree. Comments should be addressed to the Assistant Attorney General, Environment and Natural Resources Division, and either e-mailed to pubcomment-ees.enrd@usdoj.gov or mailed to P.O. Box 7611, U.S. Department of Justice, Washington, DC 20044-7611, Attention: Nancy Flickinger (EES), and should refer to United States of America v. the District of Columbia, Civil Action No. 1:08-cv-00825-RBW, DOJ # 90-11-3-09036.

The proposed Consent Decree may be examined at the Office of the United States Attorney for the District of Columbia, Judiciary Center Building, 555 Fourth Street, NW., Washington, DC 20530. During the public comment period, the consent decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $22.75 (25 cents per page reproduction cost for a full copy) payable to the U.S. Treasury.

Robert D. Brook,
Assistant Chief, Environmental Enforcement Section, Environment and Natural Resources Division.

[FR Doc. E8-11309 Filed 5-20-08; 8:45 am]

BILLING CODE 4410-15-P